DEPARTMENT OF LABOR

Mine Safety and Health Administration

Petitions for Modification

The following parties have filed petitions to modify the application of existing safety standards under section 101(c) of the Federal Mine Safety and Health Act of 1977.

1. B and B Coal Company

[Docket No. M-2003-050-C]

B and B Coal Company, 225 Main Street, Joliett, Tremont, Pennsylvania 17981 has filed a petition to modify the application of 30 CFR 75.334(a)(2), (e), and (f)(3) (Worked-out areas and areas where pillars are being recovered) to its Rock Ridge Slope (MSHA I.D. No. 36-07741) located in Schuylkill County, Pennsylvania. The petitioner requests a modification of the existing standard to permit its former ventilation system and plan to be approved and reinstated for the Rock Ridge Slope anthracite coal mine in lieu of requiring that areas be sealed or ventilated. The petitioner asserts that certain areas of the existing standard would result in risk taking for personnel at the mine. The petitioner asserts that the proposed alternative method would provide at least the same measure of protection as the existing standard.

2. Rosebud Mining Company

[Docket No. M-2003-051-C]

Rosebud Mining Company, 301 Market Street, Kittanning, Pennslyvania 16201 has filed a petition to modify the application of 30 CFR 75.1100-2(e)(2) (Quantity and location of firefighting equipment) to its Little Toby Deep Mine (MSHA I.D. No. 36-08847) located in Elk County, Pennsylvania. The petitioner proposes to use two (2) portable fire extinguishers or one fire extinguisher of twice the required capacity at all temporary electrical installations in lieu of using one fire extinguisher and 240 pounds of rock dust. The petitioner asserts that the proposed alternative method would provide at least the same measure of protection as the existing standard and would not cause a diminution of safety to the miners.

Request for Comments

Persons interested in these petitions are encouraged to submit comments via e-mail to comments@msha.gov, or on a computer disk along with an original hard copy to the Office of Standards, Regulations, and Variances, Mine Safety and Health Administration, 1100 Wilson Boulevard, Room 2352, Arlington, Virginia 22209. All comments must be postmarked or received in that office on or before August 30, 2003. Copies of these petitions are available for inspection at that address.

Dated at Arlington, Virginia, this 22nd day of July 2003.
Marvin W. Nichols, Jr.,
Director, Office of Standards, Regulations, and Variances.

[FR Doc. 03-19171 Filed 7-28-03; 8:45 am]

BILLING CODE 4510-43-P